INTERNATIONAL TRADE COMMISSION

[Investigation No. 731-TA-895 (Fourth Review)]

Pure Granular Magnesium From China

Determination

On the basis of the record ¹ developed in the subject five-year review, the United States International Trade Commission (“Commission”) determines, pursuant to the Tariff Act of 1930 (“the Act”), that revocation of the antidumping duty order on pure granular magnesium from China would be likely to lead to continuation or recurrence of material injury to an industry in the United States within a reasonably foreseeable time.²

¹ The record is defined in § 207.2(f) of the Commission's Rules of Practice and Procedure (19 CFR 207.2(f)).

² Commissioner Amy A. Karpel not participating.

Background

The Commission instituted this review on February 1, 2023 (88 FR 6784) and determined on May 8, 2023 that it would conduct an expedited review (88 FR 37275, June 7, 2023).

The Commission made this determination pursuant to section 751(c) of the Act (19 U.S.C. 1675(c)). It completed and filed its determination in this review on September 11, 2023. The views of the Commission are contained in USITC Publication 5458 (September 2023), entitled Pure Granular Magnesium from China: Investigation No. 731-TA-895 (Fourth Review).

By order of the Commission.
Issued: September 11, 2023.
Lisa Barton,
Secretary to the Commission.

[FR Doc. 2023-19953 Filed 9-14-23; 8:45 am]

BILLING CODE 7020-02-P